DEPARTMENT OF LABOR

Presidential Memorandum of January 30, 2014; Job-Driven Training for Workers

AGENCY: Employment and Training Administration, Labor.

ACTION: Notice.

On January 30, 2014, President Barack Obama issued a memorandum to the Secretary of Labor, the Secretary of Commerce, and the Secretary of Education, directing them to develop a specific action plan to make the workforce and training system more job-driven, integrated, and effective. This plan is to be provided to the President through the Vice President within 180 days of the date of this memorandum. The text of this memorandum reads —

Giving workers the opportunity to acquire the skills that they need to pursue in-demand jobs and careers is critical to growing our economy, ensuring that everyone who works hard is rewarded, and building a strong middle class. Despite recent employment growth, far too many hard-working individuals still have not been able to find a job or increase their earnings, and many businesses report difficulty hiring workers with the right skills for jobs that they want to fill.

It is critical that the Federal Government ensure that its policies and programs in the workforce and training system are designed to equip the Nation's workers with skills matching the needs of employers looking to hire. To achieve this goal, employers must identify the skills and credentials required for in-demand jobs and help develop training programs; workers and job seekers must have access to education and training that meets their unique needs and the requirements for good jobs and careers; and employers must have easy ways to find workers who have or can acquire those skills. We must take steps to ensure that all relevant Federal programs follow such a job-driven approach to training, and that these programs are accountable for getting Americans into good jobs and careers as quickly as possible. That is why I have asked the Vice President to lead a Government-wide review of relevant Federal programs.

Therefore, as part of the overall review process led by the Vice President, I hereby direct as follows:

Section 1. Job-Driven Reform of Federal Employment and Training Programs. (a) Within 180 days of the date of this memorandum and in coordination with the Office of the Vice President, the National Economic Council, the Domestic Policy Council, the Council of Economic Advisers, the Office of Science and Technology Policy, and the Office of Management and Budget, the Secretaries of Labor, Commerce, and Education (Secretaries), in consultation with other executive departments and agencies as appropriate, shall develop a specific action plan, to be provided to me through the Vice President, to make the workforce and training system more job-driven, integrated, and effective.

(b) The action plan shall identify concrete steps to make Federal workforce and training programs and policies more focused on imparting relevant skills with job-market value, more easily accessed by employers and job seekers, and more accountable for producing positive employment and earning outcomes for the people they serve. Such steps shall be consistent with the following job-driven training principles:

(i) Promoting more active engagement with industry, employers and employer associations, and worker representatives to identify the skills and supports workers need, and to make sure those skills are better communicated to education and training providers, workforce leaders, job seekers, and policy makers;

(ii) providing support for secondary and post-secondary education and training entities to equip individuals with the skills, competencies, and credentials necessary to help them obtain jobs, increase earnings, and advance their careers;

(iii) making available to workers, job seekers, and employers the best information regarding job demand, skills matching, supports, and education, training, and career options, as well as innovative approaches to training using learning science and advanced technology;

(iv) improving accountability for the outcomes of training programs, including employment and earnings outcomes;

(v) ensuring better alignment across secondary, post-secondary, and adult education, and workforce training, including coordinating Federal programs and promoting foundational skill development for employability, on-the-job training, and apprenticeship options; and

(vi) encouraging effective regional partnerships among industry, educators, worker representatives, nonprofits, and the workforce system to prepare, support, and train youth, unemployed workers, low-skilled employed adults, and others for career path employment and advancement.

(c) In developing the action plan, the Secretaries shall consult with industry, employers and employer associations, State and local leaders, economic development organizations, worker representatives, education and training providers, workforce leaders, and relevant nonprofit organizations.

(d) In developing the action plan, the Secretaries shall review existing evidence of the job training strategies that most effectively achieve the goals of this memorandum, determine what information is lacking, and identify future research and evaluation that can be undertaken to ensure that Federal programs invest in effective practices.

Sec. 2. General Provisions. (a) Nothing in this memorandum shall be construed to impair or otherwise affect:

(i) The authority granted by law to a department or agency, or the head thereof; or

(ii) the functions of the Director of the Office of Management and Budget relating to budgetary, administrative, or legislative proposals.

(b) This memorandum shall be implemented consistent with applicable law and subject to the availability of appropriations.

(c) This memorandum is not intended to, and does not, create any right or benefit, substantive or procedural, enforceable at law or in equity by any party against the United States, its departments, agencies, or entities, its officers, employees, or agents, or any other person.

(d) The Secretary of Labor is authorized and directed to publish this memorandum in the Federal Register.

Dated: February 6, 2014.
Gerri Fiala,
Deputy Assistant Secretary for Employment and Training, Labor.

[FR Doc. 2014-03062 Filed 2-11-14; 8:45 am]

BILLING CODE 4510-XX-P